DEPARTMENT OF THE INTERIOR

Bureau of Land Management

[LLES93000—L13200000-ELOOOO-241AOO, ALES-55199]

Public Meeting and Call for Public Comment on Coal Lease Application, Jefferson County, AL

AGENCY: Bureau of Land Management, Interior.

ACTION: Notice.

SUMMARY: The Bureau of Land Management (BLM) Eastern States Office announces a public meeting and requests public comments on an application filed by Best Coal/Narley Mine No. 3 for a Federal coal lease tract located in Jefferson County, Alabama.

DATES: The public meeting will be held on November 20, 2014, at 7:00 p.m., at the Gardendale Civic Center, 857 Main Street, Gardendale, AL 35071. The BLM must receive written comments on the Environmental Assessment, Fair Market Value Determination, and Maximum Economic Recovery Consideration by November 20, 2014, at the address below.

ADDRESSES: Comments should be addressed to Michael W. Glasson, BLM Eastern States, Division of Lands and Minerals, Mail Stop 4238, 20 M Street SE., Washington, DC 20003. Comments may be emailed to mglasson@blm.gov.

FOR FURTHER INFORMATION CONTACT: Michael W. Glasson, Solid Minerals Program Lead, at 202-912-7723; email mglasson@blm.gov. Persons who use a telecommunications device for the deaf (TDD) may call the Federal Information Relay Service (FIRS) at 1-800-877-8339 to contact Mr. Glasson during normal business hours. The FIRS is available 24 hours a day, 7 days a week, to leave a message or question for Mr. Glasson. You will receive a reply during normal business hours.

SUPPLEMENTARY INFORMATION: Best Coal, Inc., filed an application with the BLM on December 7, 2007, to lease Federal coal in Jefferson County, Alabama. The BLM completed an Environmental Assessment and Finding of No Significant Impact on June 5, 2014. The BLM anticipates issuing a Decision Record after the public meeting announced by this Notice and after having considered any comments received on the Environmental Assessment, Fair Market Value Determination, and Maximum Economic Recovery Consideration.

The lands included in the Best Coal/Narley Mine No. 3 Federal Coal Lease tract are located in Jefferson County, Alabama, approximately 5 miles north of Mount Olive, Alabama. The lands are described as follows:

T. 15 S., R. 04 W.

Sec. 24; SW4NW4, N2SW4, SE4SW4

Containing approximately 160 acres.

The company plans to mine the coal as an extension from its existing Narley Mine No. 3 if the lease is obtained. The proposed mine will recover coal from the New Castle, Mary Lee, and Blue Creek seams of the Mary Lee Coal Group by surface mining.

The public is invited to the meeting to give public oral and/or written comments on the environmental assessment, the Fair Market Value, and Maximum Economic Recovery of the tract. In accordance with Federal coal management regulations at 43 CFR 3425.4, the public meeting is being held on the proposed sale to allow the public to comment on and discuss the potential effects of mining and proposed lease. The meeting is being advertised in the Birmingham News, located in Birmingham, Alabama. The Secretary is required to solicit public comments on the Fair Market Value and the Maximum Economic Recovery and on factors that may affect these two determinations no less than 30 days prior to the publication of the notice of the sale (43 CFR 3425.4).

A copy of the comments submitted by the public will be available for review at the BLM Eastern States Office, 7450 Boston Blvd., Springfield, VA 22153-3121. Comments could address, but need not be limited to, the following:

1. The quality of the coal resource;

2. The mining method or methods which would achieve maximum economic recovery of the coal, including specifications of seams to be mined and the most desirable timing and rate of production;

3. Restrictions to mining that may affect coal recovery;

4. The price that the mined coal would bring when sold;

5. Costs, including mining and reclamation, of producing the coal and the time of production;

6. The percentage rate at which anticipated income streams should be discounted, either with inflation or in the absence of inflation, along with the anticipated rate of inflation;

7. Depreciation, depletion, amortization and other tax accounting factors;

8. The value of any surface estate where held privately;

9. Documented information on the terms and conditions of recent and similar coal land transactions in the lease sale area; and

10. Any comparable sales data of similar coal lands and coal quantities.

Before including your address, phone number, email address, or other personal identifying information in your comment, you should be aware that your entire comment—including your personal identifying information—may be made publicly available at any time. While you can ask us in your comment to withhold your personal identifying information from public review, we cannot guarantee that we will be able to do so.

Authority: 40 CFR 1506.6; 43 CFR 3425.4.

Bruce Dawson,
Manager, Southeastern States Field Office.

[FR Doc. 2014-26047 Filed 10-31-14; 8:45 am]

BILLING CODE 4310-GJ-P